DEPARTMENT OF AGRICULTURE

National Institute of Food and Agriculture

Draft Guidance for Applicants for Competitive and Capacity Grants Administered by the National Institute of Food and Agriculture; Availability

AGENCY: National Institute of Food and Agriculture, USDA.

ACTION: Notice of Availability.

SUMMARY: The National Institute of Food and Agriculture (NIFA) is announcing the availability of a draft guidance entitled “National Institute of Food and Agriculture (NIFA) Federal Assistance Policy Guide.” The draft guidance discusses the statutory and regulatory responsibilities of recipients of Federal funds administered by NIFA. This draft guidance compiles and updates the statutory, regulatory, policy guidance previously distributed to Capacity Grant recipients as Administrative Manuals. The draft NIFA Federal Assistance Policy Guide also addresses procedures and policies followed by NIFA in the administration of Federal assistance. NIFA intends to publish a final version of the Policy Guide to reflect any public comments, as well as the requirements of the Agricultural Act of 2014 and USDA's implementation of the Office of Management and Budget “OMB Uniform Guidance: Cost Principles, Audit, and Administrative Requirements for Federal Awards”.

DATES: All written comments must be received on or before August 13, 2014.

ADDRESSES: You may submit comments, identified by NIFA-2014-0001, by any of the following methods:

Federal eRulemaking Portal: http://www.regulations.gov. Follow the instructions for submitting comments.

Email: policyguide@nifa.usda.gov. Include NIFA-2014-0001 in the subject line of the message.

Mail: Policy and Oversight Division; National Institute of Food and Agriculture; U.S. Department of Agriculture; STOP 2299; 1400 Independence Avenue SW., Washington, DC 20250-2299.

Hand Delivery/Courier: Policy and Oversight Division; National Institute of Food and Agriculture; U.S. Department of Agriculture; Room 2312, Waterfront Centre, 800 9th Street SW., Washington, DC 20024.

Instructions: All comments submitted must include the agency name and the RIN for this rulemaking. All comments received will be posted without change to http://www.regulations.gov, Docket NIFA-2014-0001, including any personal information provided.

FOR FURTHER INFORMATION CONTACT: Melanie Krizmanich, Policy Specialist, Phone: (202) 401-1762; Email: policyguide@nifa.usda.gov.

SUPPLEMENTARY INFORMATION:

I. Background Information

The National Institute of Food and Agriculture (NIFA) is announcing the availability of a draft guidance entitled “National Institute of Food and Agriculture Federal Assistance Policy Statement.” The draft guidance discusses the statutory and regulatory responsibilities of recipients of Federal funds distributed by the NIFA. Specifically, the Policy Statement includes NIFA application processes, application review procedures, award notification and administration, applicable cost principles and other cost considerations, prior approval requirements, administrative requirements, Capacity Grant administration and associated requirements, specific Capacity Grant program requirements, terms and conditions of all NIFA awards (Competitive and Capacity), public policy requirements, special award conditions and enforcement actions, and closeout procedures. The NIFA Federal Assistance Policy Guide updates and compiles into a single document all previously published Administrative Manuals for the grantee community. The statutory, regulatory, and policy requirements contained in the Policy Guide provide general guidance to all NIFA grant recipients. If there is a conflict with this Policy Guide and the terms and conditions of a specific award, the terms and conditions associated with the award should be followed.

This draft guidance includes information collection provisions that are subject to review by the Office of Management and Budget (OMB) under the Paperwork Reduction Act of 1995 (44 U.S.C. 3501-3520). The information collections referenced in this draft guidance related to reporting requirements and other information collections have been approved by OMB. The Policy Guide imposes no new information collections not previously approved. In accordance with the Paperwork Reduction Act, prior to the publication of any final guidance document, NIFA intends to solicit public comments and obtain OMB approval for any information collections recommended in this draft guidance that are new or that would represent material modifications to these previously approved information collections found in the NIFA regulations. The draft guidance is being distributed for comment purposes only and is not intended for implementation at this time.

II. Obtaining a Copy of the Draft Guidance

A copy of the draft guidance may be obtained by contacting Melanie Krizmanich, as directed under the FOR FURTHER INFORMATION CONTACT caption. Persons with access to the Internet may obtain the draft guidance at http://www.nifa.usda.gov/business/policy_guide_notice.html.

Done in Washington, DC, this 7 day of July, 2014.
Robert E Holland,
Acting Associate Director, Programs, National Institute of Food and Agriculture.

[FR Doc. 2014-16398 Filed 7-11-14; 8:45 am]

BILLING CODE 3410-22-P